DEPARTMENT OF HOUSING AND URBAN DEVELOPMENT

[Docket No. FR-5838-N-05]

Notice of Proposed Information Collection for Public Comment; Rental Assistance Demonstration (RAD) Application Forms

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

The Rental Assistance Demonstration allows public Housing and Moderate Rehabilitation (Mod Rehab) properties to convert to long-term Section 8 rental assistance contracts; and Rent Supplement, Rental Assistance Payment and Mod Rehab properties upon contract expiration or termination, to convert Tenant Protection Vouchers (TPVs) to Project Based Vouchers (PBVs). Participation in the initiative will be voluntary; the attached applications will be used to determine eligibility for Public Housing and Mod Rehab owners only.

DATES: Comment Due Date: August 31, 2015.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number). Persons with hearing or speech impairments may access this number via TTY by calling the Federal Information Relay Service at (800) 877-8339. Copies of available documents submitted to OMB may be obtained from Ms. Mussington.

SUPPLEMENTARY INFORMATION: The Department will submit the proposed information collection to OMB for review, as required by the Paperwork Reduction Act of 1995 (44 U.S.C. Chapter 35, as amended). This Notice is submitting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility and clarity of information to be collected; and, (4) minimize the burden of the collection of information on those who are to respond, including through the use of appropriate automated collection techniques or other forms of information technology; e.g. permitting electronic submission of responses.

A. Overview of Information Collection

Title of Information Collection: Rental Assistance Demonstration (RAD) Application Forms.

OMB Approval Number: 2577-0278.

Type of Request: Extension of a currently approved collection.

Form Number: HUD-5260 RAD Application; HUD-5261 RAD Mod Rehab Application.

Description of the need for the information and proposed use: The Rental Assistance Demonstration allows Public Housing and Moderate Rehabilitation (Mod Rehab) properties to convert to long-term Section 8 rental assistance contracts; and Rent Supplement (Rent Supp), Rental Assistance Payment (RAP), and Mod Rehab properties, upon contract expiration or termination, to convert tenant protection vouchers (TPVs) to project-based vouchers (PBVs). Participation in the initiative will be voluntary. Public Housing agencies and Mod Rehab owners interested in participating in the Demonstration are required to submit applications to HUD. HUD intends through the conversion process, to assure the physical and financial sustainability of properties and enable owners to leverage private financing to address immediate and long-term capital needs, improve operations, and implement energy efficiency improvements. The RAD applications are Excel based and will be pre-populated with data the Department collects and maintains for each housing agencies. Information collected by the applications will allow the Department to determine which applicants meet the eligibility requirements and have the capacity to successfully meet RAD's mission delineated in PIH Notice PIH-2012-32, REV-2: Rental Assistance Demonstration—Partial Implementation and Request for Comments.

To review draft versions of the applications please visit the RAD Web site: www.hud.gov/rad/. Under the Applications section follow the links provided: Obtain Draft Application for PHAs: http://portal.hud.gov/hudportal/documents/huddoc?id=RAD_App_PH.xlsx. Obtain Draft Application for Owners of Mod Rehab: http://portal.hud.gov/hudportal/documents/huddoc?id=RAD_APP_Mod_Rehab.xlsx.

Respondents (i.e., affected public): State, Local or Tribal Government.

Estimated Number of Respondents: The estimated number of respondents is 8,855 annually with one response per respondent.

Estimated Number of Responses: 8,855.

Frequency of Response: Once.

Average Hours per Response: 2 Hours.

Total Estimated Burdens: 17,710.

Information collection | Number of respondents | Frequency of response | Responses per annum | Burden hour per response | Annual burden hours | Hourly cost per response | Annual cost
Public Housing RAD—Application Form | 7,500 | 1 | 7,500 | 2 | 15,000 | $40 | $600,000
MOD Rehab RAD Application Form | 1,355 | 1 | 1,355 | 2 | 2,710 | 40 | 108,400
Total | 8,855 |  | 8,855 |  | 17,710 |  | 708,000

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35 as amended.

Dated: July 23, 2015.
Merrie Nichols-Dixon,
Deputy Director, Office of Policy, Programs and Legislative Initiatives.

[FR Doc. 2015-18834 Filed 7-30-15; 8:45 am]

BILLING CODE 4210-67-P